DEPARTMENT OF COMMERCE

Foreign-Trade Zones Board

[S-127-2013]

Foreign-Trade Zone 123—Denver, Colorado; Application for Subzone, Pillow Kingdom, Inc., Aurora, Colorado

An application has been submitted to the Foreign-Trade Zones (FTZ) Board by the City and County of Denver, grantee of FTZ 123, requesting subzone status for the facilities of Pillow Kingdom, Inc. (Pillow Kingdom), located in Aurora, Colorado. The application was submitted pursuant to the provisions of the Foreign-Trade Zones Act, as amended (19 U.S.C. 81a-81u), and the regulations of the FTZ Board (15 CFR part 400). It was formally docketed on August 21, 2013.

The proposed subzone would consist of the following site: Site 1 (34.66 acres) 24000 E. 19th Avenue, Aurora. No authorization for production activity has been requested at this time. The proposed subzone would be subject to the existing activation limit of FTZ 123.

In accordance with the FTZ Board's regulations, Christopher Kemp of the FTZ Staff is designated examiner to review the application and make recommendations to the Executive Secretary.

Public comment is invited from interested parties. Submissions shall be addressed to the FTZ Board's Executive Secretary at the address below. The closing period for their receipt is October 7, 2013. Rebuttal comments in response to material submitted during the foregoing period may be submitted during the subsequent 15-day period to October 21, 2013.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Christopher Kemp at Christopher.Kemp@trade.gov or (202) 482-0862.

Dated: August 21, 2013.
Andrew McGilvray,
Executive Secretary.

[FR Doc. 2013-20768 Filed 8-23-13; 8:45 am]

BILLING CODE 3510-DS-P